DEPARTMENT OF ENERGY

Federal Energy Regulatory Commission

[Project No. 14628-000]

Minnesota Leased Housing Associates IV, Limited Partnership; Notice of Scoping Meeting, Initial Information Meeting, and Soliciting Scoping Comments for an Applicant Prepared Environmental Assessment Using the Alternative Licensing Process

a. Type of Filing: Notice of Intent to File License Application and Pre-Application Document for an Original License.

b. Project No.: 14628-000.

c. Applicant: Minnesota Leased Housing Associates IV, Limited Partnership (Minnesota Housing Associates).

d. Name of Project: A-Mill Artists Loft Hydroelectric Project (A-Mill Project).

e. Location: On the Mississippi River, in the city of Minneapolis, Hennepin County, Minnesota.

f. Filed Pursuant to: Federal Power Act, 16 U.S.C. 791(a)-825(r).

g. Applicant Contact: Owen Metz, 2905 Northwest Blvd., Suite 150, Plymouth, MN 55441; (763) 354-5618; email ometz@dominiuminc.com.

h. FERC Contact: Janet Hutzel at (202) 502-8675; or email at janet.hutzel@ferc.gov.

i. Deadline for filing scoping comments: January 3, 2015.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14628-000.

j. The proposed project would consist of: (1) Removal of the existing concrete bulkhead blocking the existing intake structure and installation of a new trash rack at the intake; (2) an existing headrace tunnel that would be rehabilitated and sleeved with a new horizontal 600-foot-long, 5-foot-diameter steel penstock; (3) a new vertical 50-foot-long, 5-foot diameter steel pipe installed in an existing downstream drop-shaft; (4) a new sluice gate; (5) a new 650-kilowatt turbine/generator set and related control system; (6) a new outlet structure consisting of a 4-foot-high by 6-foot-wide concrete box culvert installed on the invert of the existing downstream tailrace; and (7) appurtenant facilities.

k. Scoping Process: Minnesota Housing Associates intends to utilize the Federal Energy Regulatory Commission's (Commission) alternative licensing process (ALP). Under the ALP, Minnesota Housing Associates will prepare an Applicant Prepared Environmental Assessment (APEA) and license application for the A-Mill Project.

Minnesota Housing Associates expects to file with the Commission, the APEA and the license application for the A-Mill Project by January 2015. Although the Commission's intent is to prepare an environmental assessment (EA), there is the possibility that an Environmental Impact Statement (EIS) will be required. Nevertheless, this meeting will satisfy the NEPA scoping requirements, irrespective of whether an EA or EIS is issued by the Commission.

The purpose of this notice is to inform you of the opportunity to participate in the upcoming scoping meetings and environmental site review identified below, and to solicit your scoping comments.

Scoping Meetings, Initial Information Meeting (also known as a Joint Meeting), and Environmental Site Review ¹

¹ With this notice, 18 CFR 4.38(b)(3)(ii), the requirement to hold an initial information meeting, also known as a joint meeting, no earlier than 30 days and no later than 60 days after the Alternative Licensing Process is approved, is waived. Holding the initial information meeting outside the required timeframe will result in greater participation from the licensing participants.

Minnesota Housing Associates will hold two scoping meetings, one in the daytime and one in the evening, to help us identify the scope of issues to be addressed in the APEA. The initial information meeting will be held at the same time as the daytime scoping meeting.

The daytime scoping meeting will focus on resource agency concerns, while the evening scoping meeting is primarily for public input. All interested individuals, organizations, and agencies are invited to attend one or both of the meetings, and to assist the staff in identifying the environmental issues that should be analyzed in the APEA. The times and locations of these meetings and environmental site review are as follows:

Daytime Meeting

Thursday, December 4, 2014 at 12 p.m. (CST), 1000 LaSalle Avenue, Room 202 of the Terrence Murphy Hall, Minneapolis, MN 55403.

Evening Meeting

Thursday, December 4, 2014 at 5 p.m. (CST), 1000 LaSalle Avenue, Room 202 of the Terrence Murphy Hall, Minneapolis, MN 55403.

Environmental Site Review

Thursday, December 4, 2014 at 2 p.m. (CST), Xcel Energy Water Power Park, 206 Main Street SE., Minneapolis, MN 55414.

Please notify Neal Route at (763) 354-5500, or email: nroute@dominiuminc.com if you plan to attend the environmental site review.

To help focus discussions, Minnesota Housing Associates will mail the Scoping Document 1 (SD1), outlining the subject areas to be addressed in the APEA, to the parties on the mailing and distribution list. Copies of the SD1 also will be available at the scoping meetings. Minnesota Housing Associates will file SD1 with the Commission and the document will be available for review at the Commission in the Public Reference Room or may be viewed on the Commission's Web site at http://www.ferc.gov using the “eLibrary” link. Enter the docket number excluding the last three digits (P-14628) in the docket number field to access the document.

You may also register online at http://www.ferc.gov/docs-filing/esubscription.asp to be notified via email of new filings and issuances related to this or other pending projects. For assistance, contact FERCONlineSupport@ferc.gov.

Based on all written comments received, a Scoping Document 2 (SD2) may be issued. SD2 will include a revised list of issues, based on the scoping sessions.

Meeting Objectives

At the scoping meetings, Minnesota Housing Associates will: (1) Summarize the environmental issues tentatively identified for analysis in the APEA; (2) solicit from the meeting participants all available information, especially quantifiable data, on the resources at issue; (3) encourage statements from experts and the public on issues that should be analyzed in the APEA, including viewpoints in opposition to, or in support of, Minnesota Housing Associates' preliminary views; (4) determine the resource issues to be addressed in the APEA; and (5) identify those issues that require a detailed analysis, as well as those issues that do not require a detailed analysis.

Meeting Procedures

The meetings will be recorded by a stenographer and will become part of the formal record of the Commission proceeding on the project.

Dated: November 14, 2014.
Kimberly D. Bose,
Secretary.

[FR Doc. 2014-27554 Filed 11-20-14; 8:45 am]

BILLING CODE 6717-01-P